DEPARTMENT OF COMMERCE

International Trade Administration

United States Investment Advisory Council: Meeting of the United States Investment Advisory Council

AGENCY: International Trade Administration, U.S. Department of Commerce.

ACTION: Notice of an open meeting.

SUMMARY: The United States Investment Advisory Council (Council) will hold its inaugural meeting on Tuesday, June 21, 2016. The Council was chartered on April 6, 2016, to advise the Secretary of Commerce on matters relating to foreign direct investment into the United States. At the meeting, members will be sworn-in and will begin a discussion of the work they will undertake during their term. They are expected to discuss issues impacting foreign direct investment into the United States, including investment opportunities across U.S. regions, regulations and visas, in addition to other topics. The agenda may change to accommodate Council business. The final agenda will be posted on the Department of Commerce Web site for the Council at http://trade.gov/IAC, at least one week in advance of the meeting.

DATES: Tuesday, June 21, 2016, 9 a.m.-12 p.m. EDT.

ADDRESSES: The United States Investment Advisory Council meeting will be broadcast via live webcast on the Internet at http://whitehouse.gov/live.

FOR FURTHER INFORMATION CONTACT: Li Zhou, the United States Investment Advisory Council, Room 4043, 1401 Constitution Avenue NW., Washington, DC 20230, telephone: 202-482-4501, email: IAC@trade.gov.

SUPPLEMENTARY INFORMATION:

Background: The Council advises the Secretary of Commerce on matters relating to the promotion and retention of foreign direct investment in the United States.

Public Participation: The public is invited to submit written statements to the United States Investment Advisory Council. Statements must be received by 5:00 p.m. EDT June 14, 2016 by either of the following methods:

a. Electronic Submissions

Submit statements electronically to Li Zhou, Executive Secretary, United States Investment Advisory Council via email: IAC@trade.gov.

b. Paper Submissions

Send paper statements to Li Zhou, Executive Secretary, United States Investment Advisory Council, Room 4043, 1401 Constitution Avenue NW., Washington, DC 20230. Statements will be posted on the United States Investment Advisory Council Web site (http://trade.gov/IAC) without change, including any business or personal information provided such as names, addresses, email addresses, or telephone numbers. All statements received, including attachments and other supporting materials, are part of the public record and subject to public disclosure. You should submit only information that you wish to make publicly available.

Meeting minutes: Copies of the Council's meeting minutes will be available within ninety (90) days of the meeting.

Dated: June 1, 2016.
Li Zhou,
Executive Secretary, United States Investment Advisory Council.

[FR Doc. 2016-13284 Filed 6-3-16; 8:45 am]

BILLING CODE 3510-DR-P